DEPARTMENT OF HOMELAND SECURITY

Coast Guard

33 CFR Part 110

[CGD05-06-074]

RIN 1625-AA01

Anchorage G, Hampton Flats (Naval Explosives Anchorage) Hampton Roads, VA

AGENCY: Coast Guard, DHS.

ACTION: Notice of proposed rulemaking.

SUMMARY: The Coast Guard proposes changing the boundaries of Hampton Roads Explosive Anchorage Golf in response to a widening of the Norfolk Entrance Reach by the U. S. Army Corps of Engineers (USACE) undertaken to improve deep draft vessel traffic maneuverability, and to remove the shallow water area in the Hampton Bar Flats from the boundaries of this deepwater anchorage.

DATES: Comments and related material must reach the Coast Guard on or before April 9, 2007.

ADDRESSES: You may mail comments and related material to Commander (dpw), Fifth Coast Guard District, 431 Crawford Street, Room 100, Portsmouth, VA 23704-5004. The telephone number is (757) 398-6360. You may Email your comments to Albert.L.Grimes@uscg.mil. Commander (dpw), Fifth Coast Guard District maintains the public docket for this rulemaking. Comments and material received from the public, as well as documents indicated in this preamble as being available in the docket, will become part of this docket and will be available for inspection or copying at between 9 a.m. and 3 p.m., Monday through Friday, except Federal holidays.

FOR FURTHER INFORMATION CONTACT: Mr. Albert Grimes, Fifth Coast Guard District Prevention and Waterways, (757) 398-6360, E-mail: Albert.L.Grimes@uscg.mil.

SUPPLEMENTARY INFORMATION:

Request for Comments

We encourage you to participate in this rulemaking by submitting comments and related material. If you do so, please include your name and address, identify the docket number for this rulemaking (CGD05-06-074), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the address listed under ADDRESSES explaining why one would be beneficial. If we determine that one would aid this rulemaking, we will hold one at a time and place announced by a later notice in the Federal Register.

Background and Purpose

On Thursday, 20 April 2006, the Coast Guard was informed by the U.S. Army Corps of Engineers of its intention to widen the Norfolk Entrance Reach project in the vicinity of Hampton Roads Golf Anchorage to better facilitate the safe passage of deep draft vessel traffic in and out of the Port of Hampton Roads. USACE studies found that deep draft ships routinely exited the federal navigation project when turning into or out of the Elizabeth River and Norfolk Entrance Reach. USACE widened the turn area ensuring project depths are available to ships while maneuvering through this turn. As a result of this channel widening a small portion of Golf Anchorage will be lost. During the Coast Guard's subsequent review of the boundaries of Golf Anchorage, it was also determined that a significant portion of shallow water in the Hampton Bar Flats area was included as a part of this anchorage area. The Coast Guard believes that this shallow water area is not required to serve the needs of deep draft vessels that Golf Anchorage was designed for and therefore should be removed from the boundaries of the Golf Anchorage.

Discussion of Proposed Rule

The USACE widening of the Norfolk Harbor Reach federal navigation channel necessitates a change in the size and boundaries of Anchorage Golf. This change is necessary to facilitate the safe passage of inbound and outbound deep draft vessels. Removal of the shallow water area in Hampton Bar Flats was included in this proposed change to the anchorage as the Coast Guard determined that this area is not required to serve the needs of the deep draft vessels the anchorage was designed to serve.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary. The effect of this proposed action merely makes minor changes to the boundaries of the existing anchorage area.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. The area removed includes unusable shallow areas and is so small it would not otherwise impact the ability of vessels to use the anchorage. It would in fact create additional opportunities for the numerous small commercial fishing and recreational vessels to access a greater portion of the Hampton Bar Flats without impacting the regulated anchorage area.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the address listed under ADDRESSES. The Coast Guard will not retaliate against small entities that question or complain about this rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this rule under Commandant Instruction M16475.1D, and Department of Homeland Security Management Directive 5100.1, which guide the Coast Guard in complying with the National Environmental Policy Act of 1969 (NEPA) (42 U.S.C. 4321-4370f), and have made a preliminary determination that there are no factors in this case that would limit the use of a categorical exclusion under section 2.B.2 of the Instruction. The rule deals with reducing the size of an existing anchorage area. Therefore, we believe that this rule should be categorically excluded, under figure 2-1, paragraph (34)(f), of the Instruction, from further environmental documentation. Under figure 2-1, paragraph 34(f) of the Instruction, and “Environmental Analysis Check List” is not required for this rule. Comments on this section will be considered before we make the final decision on whether this rule should be categorically excluded from further environmental review.

List of Subjects in 33 CFR Part 110

Anchorage grounds.

For the reasons discussed in the preamble the Coast Guard proposes to amend 33 CFR part 110 as follows:

PART 110—ANCHORAGE REGULATIONS

1. The authority for part 110 continues to read as follows:

Authority: 33 U.S.C. 471, 1221 through 1236, 2030, 2035, and 2071; 33 CFR 1.05-1(g); Department of Homeland Security Delegation No. 0170.1.

2. Revise part 110.168 to read as follows:

110.168 Hampton Roads, Virginia and adjacent waters (Datum: NAD 83).

(a) Anchorage Grounds. (a)(3)(iii) Anchorage G, Hampton Flats (Naval Explosives Anchorage). The waters bounded by a line connecting the following points:

Latitude | Longitude
36°58′50.9″ N | 76°19′33.7″ W
36°58′50.3″ N | 76°19′39.4″ W
36°58′19.3″ N | 76°20′18.2″ W
36°58′16.5″ N | 76°20′18.6″ W
36°58′07.3″ N | 76°20′31.3″ W
36°57′42.0″ N | 76°21′06.3″ W
36°57′35.2″ N | 76°21′25.6″ W
36°57′31.8″ N | 76°22′00.6″ W
36°58′07.6″ N | 76°22′01.7″ W
36°58′47.2″ N | 76°21′04.7″ W
36°59′17.0″ N | 76°20′20.7″ W
36°59′25.0″ N | 76°20′05.4″ W

Dated: February 14, 2007.
Larry L. Hereth,
Rear Admiral, U.S. Coast Guard, Commander, Fifth Coast Guard District.

[FR Doc. E7-4111 Filed 3-7-07; 8:45 am]

BILLING CODE 4910-15-P